DEPARTMENT OF TRANSPORTATION

Office of the Secretary

49 CFR Part 37

[Docket No. OST-1998-3648]

RIN 2105-AC98

Transportation for Individuals With Disabilities—Accessibility of Over-the-Road Buses (OTRBs)

AGENCY: Office of the Secretary, DOT.

ACTION: Final rule.

SUMMARY: This final rule makes minor changes to the interim final rule published in the Federal Register on February 6, 2001 (66 FR 9048). The final rule sets out the ways in which an operator must transmit a copy of the request for accessible service. In addition, the final rule responds to comments received in response to the interim final rule's request for comment on: (1) Should the Department reconsider its decision to allow extensive use of on-call bus service; (2) should the Department propose requiring acquisition of accessible buses in some situations where on-call service is not permitted; and (3) are there other ways of restoring the balance between the Department's objectives of ensuring accessible buses and service for passengers with disabilities and mitigating the economic impacts on small businesses.

DATES: This final rule becomes effective on July 7, 2004.

FOR FURTHER INFORMATION CONTACT: Linda C. Lasley, Office of the Assistant General Counsel for Regulation and Enforcement, Department of Transportation, 400 7th Street, SW., Room 10424, Washington, DC 20590, (202) 366-4723.

SUPPLEMENTARY INFORMATION: The Department's interim final rule made changes to the final rule it published in September 1998 (63 FR 51670). Specifically, the interim final rule removed the provision requiring compensation to passengers who do not receive required service, clarified the information collection requirements, postponed the date for bus companies to submit information on ridership on accessible fixed route service and the acquisition of buses, and designated a different address for regulated parties to submit the required information. The interim final rule also asked for comment on: (1) Should the Department reconsider its decision to allow extensive use of on-call bus service; (2) should the Department propose requiring acquisition of accessible buses in some situations where on-call service is not permitted; and (3) are there other ways of restoring the balance between the Department's objectives of ensuring accessible buses and service for passengers with disabilities and mitigating the economic impacts on small businesses.

Discussion of Comments

The Department received five comments on its interim final rule. It received comments from the American Bus Association, the Paralyzed Veterans of America, Coach USA, Inc., the Disability Rights Education and Defense Fund and the Hawaii Disability and Communication Access Board. Generally, all of the comments supported a confirmation number for passengers requesting service. Only the Hawaii Disability and Communication Access Board seemed to disagree with the confirmation number approach because it advocates restricting the use of 48-hour on-call service. In any event, the DOT agrees with the majority of commenters that a confirmation number would be appropriate in certain situations. Thus, Over-the-Road Bus Companies (OTRB) may respond to a request for service in one of three ways. First, a copy of the Service Request Form can be mailed to the passenger the next business day after the request is received. Second, if the person making the request has email access, the OTRB can provide a confirmation number, which verifies that the Service Request Form has been filled-out electronically and the passenger will receive a paper copy of that request when she or he arrives for the service. Third, for passengers with facsimile machines, the OTRB can fax a copy of the Service Request Form twenty-four hours after receiving the request. If service is denied when the passenger arrives, then a completed form indicating the denial of service must be given to the passenger at that time. If service is denied before the passenger shows up for the requested service, then a completed form indicating the denial of service may be transmitted in one of the three ways outlined above.

The Paralyzed Veterans of America and the Disability Rights Education and Defense Fund noted that the interim final rule did not make the clarification that only one request has to be made for the entire trip (legs and return included). A clarification, however, was made in the interim final rule with the addition of the following language: “the passenger shall be required to make only one request, which covers all legs of the requested trip * * *” The DOT believes this is a sufficient clarification, and, therefore, that rule language will not be changed in this final rule.

The American Bus Association and Coach USA, Inc. commented that there is no legal justification for reconsidering the 48-hour rule simply because the compensation provision of the rule was judicially invalidated. Without commenting on the legal justification for reconsidering the 48-hour rule, it behooves the agency to allow the 48-hour rule to stand as written, with the exception of the minor changes made today, until compliance, or lack thereof, provides a greater need to reopen the rule. In other words, the Department believes that it will be better able to assess the effectiveness of these rules once it has sufficient data to analyze.

Regulatory Notices

Executive Order 12866 (Regulatory Planning and Review) and DOT Regulatory Policies and Procedures

This rulemaking is not “significant” under Executive Order 12866 or the Department of Transportation's Regulatory Policies and Procedures because there are no costs and this final rule makes only minor changes.

Executive Order 13132 (Federalism)

This final rule has been analyzed in accordance with the principles and criteria contained in Executive Order 13132 (“Federalism”). This final rule does not adopt any regulation that: (1) Has substantial direct effects on the States, the relationship between the national government and the states, or the distribution of power and responsibilities among the various levels of government; (2) imposes substantial direct compliance costs on State and local governments; or (3) preempts state law. Therefore, the consultation and funding requirements of Executive Order 13132 do not apply.

Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

Unfunded Mandates Reform Act

The Department has determined that the requirements of Title II of the Unfunded Mandates Reform Act of 1995 do not apply to this rulemaking.

Regulatory Flexibility Act

The Regulatory Flexibility Act (5 U.S.C. 601 et seq.) requires an agency to review regulations to assess their impact on small entities unless the agency determines that a rule is not expected to have a significant economic impact on a substantial number of small entities. In the Department's final rule published on September 28, 1998 (63 FR 51670), the Department analyzed the costs of this rule and the impact on small entities. This final rule makes minor changes regarding the way an OTRB provides notice to a passenger that a request for accessible service has been received. Since the costs of this rulemaking were previously analyzed, and this final rule makes minor changes that could reduce the paperwork burden on the OTRB industry, I hereby certify that this rule will not have significant economic impact on a substantial number of small entities.

Paperwork Reduction Act

As required by the Paperwork Reduction Act of 1995, the Department submitted an Information Collect Request to the Office of Management and Budget (OMB). We requested comments on our estimates in a Notice and Request for Comments published on February 5, 2002 (67 FR 5353). The Department received approval on the Information Collection Request from OMB and received an information collection number (OMB No. 2100-0019).

List of Subjects in 49 CFR Part 37

Buildings and facilities, Buses, Civil Rights, Individuals with Disabilities, Mass Transportation, Railroads, Transportation.

For the reasons set forth in the preamble, 49 CFR Part 37 is amended as follows:

PART 37—TRANSPORTATION SERVICES FOR INDIVIDUALS WITH DISABILITIES (ADA)

1. The authority for Subpart H, Part 37 continues to read as follows:

Authority: 42 U.S.C. 12101-12213; 49 U.S.C. 322.

2. Revise § 37.213 (a)(2) and (b)(2) as follows:

§ 37.213 Information collection requirements.

(a) * * *

(1) * * *

(2) The passenger shall be required to make only one request, which covers all legs of the requested trip (e.g., in the case of a round trip, both the outgoing and return legs of the trip; in the case of a multi-leg trip, all connecting legs). The operator shall transmit a copy of the form to the passenger in one of the following ways:

(i) By first-class United States mail. The operator shall transmit the form no later than the end of the next business day following the request;

(ii) By telephone or email. If the passenger can receive the confirmation by this method, then the operator shall provide a unique confirmation number to the passenger when the request is made and provide a paper copy of the form when the passenger arrives for the requested trip; or

(iii) By facsimile transmission. If the passenger can receive the confirmation by this method, then the operator shall transmit the form within twenty-four hours of the request for transportation.

* * * * *

(b) * * *

(1) * * *

(2) The passenger shall be required to make only one request, which covers all legs of the requested trip (e.g., in the case of a round trip, both the outgoing and return legs of the trip; in the case of a multi-leg trip, all connecting legs). The operator shall transmit a copy of the form to the passenger, and whenever the equivalent service is not provided, in one of the following ways:

(i) By first-class United States mail. The operator shall transmit the form no later than the end of the next business day following the request for equivalent service;

(ii) By telephone or email. If the passenger can receive the confirmation by this method, then the operator shall provide a unique confirmation number to the passenger when the request for equivalent service is made and provide a paper copy of the form when the passenger arrives for the requested trip; or

(iii) By facsimile transmission. If the passenger can receive the confirmation by this method, then the operator shall transmit the form within twenty-four hours of the request for equivalent service.

* * * * *

Issued in Washington, DC, this 22nd day of June, 2004.
Norman Y. Mineta,
Secretary of Transportation.

[FR Doc. 04-15414 Filed 7-6-04; 8:45 am]

BILLING CODE 4910-62-P